DEPARTMENT OF HEALTH AND HUMAN SERVICES

Administration for Children and Families

Grants and Cooperative Agreements; Notice of Availability

Federal Agency Contact Name: Administration for Children and Families, Children's Bureau.

Funding Opportunity Title: Previous Abandoned Infant Comprehensive Service Demonstration Projects.

Announcement Type: Competitive Grant—Initial.

Funding Opportunity Number: HHS-2004-ACF-ACYF-CB-0018.

CFDA Number: 93.551.

Due Date for Applications: July 12, 2004.

I. Funding Opportunity Description

The purpose of this funding opportunity is to provide support for the comprehensive service demonstration projects initially funded in FY 2000. Applicants should document continuing need for the project and propose ways of improving service provision to meet the needs of abandoned infants and young children or those who are at risk of abandonment and their families. Applicants should also propose methods to continue the program evaluation including proposed outcome measures and summary evaluative data on the current program. Applicants applying under this funding opportunity should be advised that this is a competitive funding process and that applications approved for funding will be given a new grant number. Further, existing award activities cannot overlap with the new grant's project period; and finally, funds from the currently existing grants cannot be expended for new grant activities. Projects supported under this funding opportunity are expected to serve as models for service provision to children and adolescents affected by HIV/AIDS. A model project funded under this initiative must:

(a) Develop and implement an evidence-based project with specific components or strategies that are based on theory, research, or evaluation data; or, replicate or test the transferability of successfully evaluated program models;

(b) Determine the effectiveness of the model and its components or strategies; and

(c) Produce materials that will enable others to replicate the model.

Background

The purposes of Public Law 100-505, the Abandoned Infants Act of 1988 as amended, are to establish a program of demonstration projects to prevent the abandonment in hospitals of infants and young children, particularly those who have been perinatally exposed to a dangerous drug and those with the human immunodeficiency virus (HIV) or who have been perinatally exposed to the virus; to identify and address the needs of those infants and children who are, or might be, abandoned; to develop a program of comprehensive support services for these infants and young children and their natural families (see Definitions) that include, but are not limited to, foster family care services, case management services, family support services, parenting skills, in-home support services, counseling services and group residential home services; and to recruit and train health and social services personnel, foster care families, and residential care providers to meet the needs of abandoned children and infants and children who are at risk of abandonment. The legislation also allows for the provision of a technical assistance training program to support the planning, development and operation of the service demonstration projects. The reauthorized legislation allows the Secretary to give priority to applicants located in States that have developed and implemented procedures for expedited termination of parental rights and placement for adoption of infants determined to be abandoned under State law.

Definitions

Abandoned and Abandonment—The terms “abandoned” and “abandonment,” used with respect to infants and young children, mean that the infants and young children are medically cleared for discharge from acute-care hospital settings, but remain hospitalized because of a lack of appropriate out-of-hospital placement alternatives.

Acquired Immune Deficiency Syndrome—The term “acquired immune deficiency syndrome” includes infection with the etiologic agent for such syndrome, any condition indicating that an individual is infected with such etiologic agent, and any condition arising from such etiologic agent.

Dangerous Drug—The term “dangerous drug” means a controlled substance, as defined in section 102 of the Controlled Substances Act (21 U.S.C. 802).

Natural Family—The term “natural family” shall be broadly interpreted to include natural parents, grandparents, family members, guardians, children residing in the household, and individuals residing in the household on a continuing basis who are in a care-giving situation, with respect to infants and young children covered under this Act.

Projects funded under this program must do the following things:

Projects funded under this announcement must collect descriptive data on characteristics of individuals and families served, types and nature of needs identified and met, the services provided, measures of client outcomes, child development and well-being, client satisfaction, parenting skills, parent/child interaction, cost benefit, service utilization information, and any other such information as may be required by ACYF. (For additional information on outcome measures, suggested data collection instruments, and specific data characteristics, please contact the National Abandoned Infants Assistance Resource Center's Web site http://aia.berkeley.edu.

Projects must also submit descriptive data on the clients served and the services provided annually to the National Abandoned Infants Assistance Resource Center. Timeframes for the submission of data on outcome measures will be negotiated within six months after grant award.

Projects must also comply with ACYF/CB requirements for a third party evaluation of the project. In order to evaluate the competence of the third-party evaluator and to assure that the evaluation methodology and design are appropriate, the third party evaluator must write the evaluation section of the application. This means that the evaluator must be selected as soon as possible after an applicant has decided to compete for a demonstration project. In selecting an evaluator, applicants are reminded that it is a regulatory requirement to encourage maximum free and open competition, using the applicant's own procurement policies and procedures. The application must indicate whether the third party evaluator was competitively selected, or whether the applicant is proposing a sole source contract for the evaluator. Sole source procurements must be fully justified in the application. For those applicants who plan to continue the services of their current third party evaluator, the applicant must include in the application a sole source justification for review, by the program office and the Office of Grants Management, ACYF.

Applications including residential care services should make that component a part of and integral to a larger system of services directed toward achieving permanency for the children. These residential services should be transitional (i.e., three to six months and no longer) to a permanent placement.

Applicants should commit no less than 10% of the total approved project cost for the evaluation component. For example, a $450,000 grant award with a $50,000 match should commit no less than $50,000 annually to the evaluation effort or a total of no less than $200,000 during the entire project period.

II. Award Information

Funding Instrument Type: Grant.

Anticipated Total Priority Area Funding: The anticipated total for all awards under this funding announcement in FY 2004 is $2.7 million.

Anticipated Number of Awards: It is anticipated that 3 to 6 projects will be funded.

Ceiling on amount of individual Awards: The maximum Federal share of the project is $450,000 in the first budget period. An application received that exceeds that amount will be considered “non-responsive” and be returned to the applicant without further review.

Floor of Individual Award Amounts: none.

Average Anticipated Award Amount: $450,000 per budget period.

Project Periods for Awards: The projects will be awarded for a period of 48 months. The initial grant award will be for a 12-month budget period. The award of continuation funding beyond each 12-month budget period will be subject to the availability of funds, satisfactory progress on the part of the grantee, and a determination that continued funding would be in the best interest of the government.

III. Eligibility Information

1. Eligible Applicants

State governments

County governments

City or township governments

State controlled institutions of higher education

Native American tribal governments (Federally recognized)

Native American tribal organizations (other than Federally recognized tribal governments)

Nonprofits having a 501(c)(3) status with the IRS, other than institutions of higher education

Non-profits that do not have 501(c)(3) status with the IRS, other than institutions of higher education

Private institutions of higher education

Additional Information on Eligibility: Only those Abandoned Infants Comprehensive Service Demonstration Projects that were funded in FY 2000 are eligible to apply.

Non-profit applicants must submit proof of their non-profit status and this proof must be included in their applications. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Applications that exceed the $450,000 ceiling will be considered non-responsive and will not be eligible for funding under this announcement.

2. Cost Sharing or Matching

The grantee should provide at least 10 per cent of the total approved cost of the project. The total approved cost is the sum of the Federal share and the non-Federal share. Therefore, a project requesting $450,000 per budget period should include a match of at least $50,000 per budget period. Applicants should provide a letter of commitment verifying the actual amount of the non-Federal share of project costs.

The following example shows how to calculate the 10% match amount for a $450,000 grant: $450,000 (Federal share) divided by .90 (100% −10%) equals $500,000 (total project cost including match) minus $450,000 (federal share) equals $50,000 (required 10% match).

The non-federal share may be cash or in-kind contributions, although applicants are encouraged to meet their match requirements through cash contributions. If approved for funding, grantees will be held accountable for the commitment of non-Federal resources and failure to provide the required amount will result in a disallowance of unmatched Federal funds.

3. Other (if applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

IV. Application and Submission Information

1. Address To Request Application Package

ACYF Operations, The Dixon Group, ATTN: Children's Bureau, 118 Q Street, NE., Washington, DC 20002-2132; Telephone: (866) 796-1591.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application form Grants.gov.

• We may request that you provide original signatures on forms at a later date.

• You may access the electronic application for this program on www.Grants.gov.

• You must search for the downloadable application package by the CFDA number.

Electronic Address Where Applications Will Be Accepted: Grants.gov.

Address Where Hard Copy Applications Will Be Accepted: Children's Bureau Grant Receipt Point, ACYF Operations Center, c/o The Dixon Group, Inc., 118 Q Street NE, Washington, DC 20002-2132.

Each application must contain the following items in the order listed:

1. Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check “New.”

In Item 10 of Form 424, clearly identify the Catalog of Federal Domestic Assistance (CFDA) program title and number for the program for which funds are being requested as stated in this funding opportunity announcement.

In Item 11 of Form 424, identify the single funding opportunity the application addresses.

In Item 12 of Form 424, identify the specific geographic area to be served.

In Item 14 of Form 424, identify Congressional districts of both the applicant and project.

2. Budget Information Non-Construction Programs (Form 424A) and Budget Justification. Follow the instructions provided and those in the Uniform Project Description. Note that Federal funds provided to States and services or other resources purchased with Federal funds may not be used to match project grants.

3. Certifications/Assurances. Applicants requesting financial assistance for nonconstruction projects must file the Standard Form 424B, “Assurances: Non-Construction Programs.” Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the applications.

If applicable, applicants must include a completed SPOC certification (Single Point of Contact) with the date of the SPOC contact entered in line 16, page 1 of the Form 424.

By signing the “Signature of Authorized Representative” on the SF 424, the applicant is providing a certification and need not mail assurances for completing the following grant and cooperative agreement requirements: Participation in any evaluation or technical assistance effort supported by ACYF; submission of all required semi-annual and final Financial Status Reports (SF269) and Program Performance Reports in a timely manner, in hard-copy and electronic formats (preferably MS WORD and PDF) as negotiated with the Federal Project Officer; and attendance of a key staff person and evaluator from the project at an annual 3-5 day grantees' meeting (to be determined by the Children's Bureau) in Washington, DC and at a “kick-off” meeting following award.

The Office for Human Research Protections of the U.S. Department of Health and Human Services provides website information and policy guidance on the Federal regulations pertaining to protection of human subjects (45 CFR 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable DHHS regulations can be found in 45 CFR part 74 or 92.

4. Project Abstract/Summary (one page maximum). Clearly mark this page with the applicant name as shown on item 5 of the Form 424, identify the competitive grant funding opportunity and the title of the proposed project as shown in item 11 and the service area as shown in item 12 of the Form 424. The summary description should not exceed 300 words.

Care should be taken to produce an abstract/summary that accurately and concisely reflects the proposed project. It should describe the objectives of the project, the approach to be used and the results or benefits expected.

5. Project Description for Evaluation. Applicants should organize their project description according to the Evaluation Criteria described in this funding opportunity announcement providing information that addresses all the components.

6. Proof of non-profit status (if applicable). Any non-profit organization submitting an application must submit proof of its non-profit status in its application at the time of submission. Any of the following constitutes acceptable proof of such status:

a. A reference to the applicant organization's listing in the Internal Revenue Service's (IRS) most recent list of tax-exempt organizations described in the IRS Code.

b. A copy of a currently valid IRS tax exemption certificate.

c. A statement from a State taxing body, State attorney general, or other appropriate State official certifying that the applicant organization has a non-profit status and that none of the net earning accrue to any private shareholders or individuals.

d. A certified copy of the organization's certificate of incorporation or similar document that clearly establishes non-profit status.

e. Any of the items immediately above for a State or national parent organization and a statement signed by the parent organization that the applicant organization is a local non-profit affiliate.

7. Indirect cost rate agreement. If claiming indirect costs, provide documentation that applicant currently has an indirect cost rate approved by the Department of Health and Human Services (HHS) or another cognizant Federal agency.

8. Letters of agreement and memoranda of understanding. If applicable, include a letter of commitment or Memorandum of Understanding from each partner and/or sub-contractor describing their role, detailing specific tasks to be performed, and expressing commitment to participate if the proposed project is funded.

9. Provide letters of support and commitment from faith and community-based agencies whose cooperation will be critical to your program's success.

10. For those applicants who propose to continue the services of their current third party evaluator, the applicant must include in the application a sole source justification for review by the program office, the Office of Grants Management, and ACF.

11. Provide a letter of commitment verifying the actual amount of the non-Federal share of project costs.

12. The application limit is 90 pages total including all forms and attachments. Submit one original and two copies.

To be considered for funding, each application must be submitted with the Standard Federal Forms (provided at the end of this announcement or through the electronic links provided) and following the guidance provided. The application must be signed by an individual authorized to act for the applicant agency and to assume responsibility for the obligations imposed by the terms and conditions of the grant award.

To be considered for funding, each applicant must submit one signed original and two additional copies of the application, including all forms and attachments, to the Application Receipt Point specified in the section titled Deadline at the beginning of the announcement. The original copy of the application must have original signatures, signed in black ink.

The application must be typed, double spaced, printed on only one side, with at least ½ inch margins on each side and 1 inch at the top and bottom, using standard 12 Point fonts (such as Times Roman or Courier). Pages must be numbered.

Pages over the page limit stated within this funding opportunity announcement will be removed from the application and will not be reviewed. All copies of an application must be submitted in a single package, and a separate package must be submitted for each funding opportunity. The package must be clearly labeled for the specific funding opportunity it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Tips for Preparing a Competitive Application: It is essential that applicants read the entire announcement package carefully before preparing an application and include all of the required application forms and attachments. The application must reflect a thorough understanding of the purpose and objectives of the Children's Bureau priority-area initiatives. Reviewers expect applicants to understand the goals of the legislation and the Children's Bureau's interest in each topic. A “responsive application” is one that addresses all of the evaluation criteria in ways that demonstrate this understanding. Applications that are considered to be “unresponsive” generally receive very low scores and are rarely funded.

The Children's Bureau's Web site (http://www.acf.dhhs.gov/programs/cb) provides a wide range of information and links to other relevant web sites. Before you begin preparing an application, we suggest that you learn more about the mission and programs of the Children's Bureau by exploring the website.

Organizing Your Application: The specific evaluation criteria in Section V of this funding announcement will be used to review and evaluate each application. The applicant should address each of these specific evaluation criteria in the project description. It is strongly recommended that applicants organize their proposals in the same sequence and using the same headings as these criteria, so that reviewers can readily find information that directly addresses each of the specific review criteria.

Project Evaluation Plan: Project evaluations are very important. If you do not have the in-house capacity to conduct an objective, comprehensive evaluation of the project, then the Children's Bureau advises that you propose contracting with a third-party evaluator specializing in social science or evaluation, or a university or college, to conduct the evaluation. A skilled evaluator can assist you in designing a data collection strategy that is appropriate for the evaluation of your proposed project. Additional assistance may be found in a document titled “Program Manager's Guide to Evaluation.” A copy of this document can be accessed at http://www.acf.hhs.gov/programs/core/pubs_reports/prog_mgr.html or ordered by contacting the National Clearinghouse on Child Abuse and Neglect Information, 330 C Street, SW, Washington, DC 20447; phone (800) 394-3366; fax (703) 385-3206; e-mail nccanch@calib.com.

Logic Model: A logic model is a tool that presents the conceptual framework for a proposed project and explains the linkages among program elements. While there are many versions of the logic model, they generally summarize the logical connections among the needs that are the focus of the project, project goals and objectives, the target population, project inputs (resources), the proposed activities/processes/outputs directed toward the target population, the expected short- and long-term outcomes the initiative is designed to achieve, and the evaluation plan for measuring the extent to which proposed processes and outcomes actually occur. Information on the development of logic models is available on the Internet at http://www.uwex.edu/ces/pdande/ or http://www.extension.iastate.edu/cyfar/capbuilding/outcome/outcome_logicmdir.html.

Use of Human Subjects: If your evaluation plan includes gathering data from or about clients, there are specific procedures which must be followed in order to protect their privacy and ensure the confidentiality of the information about them. Applicants planning to gather such data are asked to describe their plans regarding an Institutional Review Board (IRB) review. For more information about use of human subjects and IRB's you can visit these Web sites: http://ohrp.osophs.dhhs.gov/irb/irb_chapter2.htm#d2 and http://ohrp.osophs.dhhs.gov/humansubjects/guidance/ictips.htm.

3. Submission Dates and Times

The closing date for submission of applications is July 12, 2004. Mailed applications received after the closing date will be classified as late.

Deadline: Mailed applications shall be considered as meeting an announced deadline if they are received on or before July 12, 2004, and received by ACF in time for the independent review. Applications must be mailed to the following address: ACYF Operations, The Dixon Group, ATTN: Children's Bureau, 118 Q Street, NE, Washington, DC 20002-2132.

Applications hand-carried by applicants, applicant couriers, or by other representatives of the applicant shall be considered as meeting an announced deadline if they are received on or before the deadline date, between the hours of 8 a.m. and 4:30 p.m., EST, at ACYF Operations, The Dixon Group, ATTN: Children's Bureau, 118 Q Street, NE, Washington, DC 20002-2132, between Monday and Friday (excluding Federal holidays). This address must appear on the envelope/package containing the application with the note “ATTN: Children's Bureau.” Applicants are cautioned that express/overnight mail services do not always deliver as agreed.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
1. SF424 | Per required form | May be found at http://www.acf.hhs.gov/programs/ofs/grants/form.htm | See application due date.
2. SF424A | Per required form | May be found at http://www.acf.hhs.gov/programs/ofs/grants/form.htm | See application due date.
3.a. SF424B | Per required form | May be found at http://www.acf.hhs.gov/programs/ofs/grants/form.htm | See application due date.
3.b. Certification regarding lobbying | Per required form | May be found at http://www.acf.hhs.gov/programs/ofs/grants/form.htm | See application due date.
3.c. Disclosure of Lobbying Activities (SF-LLL) | Per required form | May be found at http://www.acf.hhs.gov/programs/ofs/grants/form.htm | See application due date.
4. Project Summary/Abstract | Summary of application request | See instructions in this funding opportunity announcement | See application due date.
5. Project Description | Responsiveness to evaluation criteria | See instructions in this funding opportunity announcement | See application due date.
6. Proof of non-profit status | See above | See above | See application due date.
7. Indirect cost rate agreement | See above | See above | See application due date.
8. Letters of agreement & MOUs | See above | See above | See application due date.
9. Letters of support | See above | See above | See application due date.
10. Sole source justification | See above | See above | See application due date.
11. Non-Federal share letter | See above | See above | See application due date.
Total application | See above | Application limit 90 pages total including all forms and attachments. Submit one original and two copies | See application due date.

Additional Forms: Private-non-profit organizations may submit with their applications the additional survey located under “Grant Related Documents and Forms” titled “Survey for Private, Non-Profit Grant Applicants.”

What to submit | Required content | Required form or format | When to submit
Survey for Private, Non-Profit Grant Applicants | Per required form | May be found on http://www.acf.hhs.gov/programs/ofs/grants/form.htm | By application due date.

4. Intergovernmental Review

State Single Point of Contact (SPOC)

This program is covered under Executive Order (E.O.) 12372, “Intergovernmental Review of Federal Programs”, and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, S.W., Washington, D.C. 20447.

The official list, including addresses, of the jurisdictions elected to participate in E.O. 12372 can be found on the following URL: http://www.whitehouse.gov/omb/grants/spoc.html.

5. Funding Restrictions

Grant awards will not allow reimbursement of pre-award costs. Construction is not an allowable activity or expenditure under this solicitation.

Available Funds: Applicants should note that grants to be awarded under this program announcement are subject to the availability of funds. The size of the actual awards will vary. In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competitions.

6. Other Submission Requirements

Submission by Mail: An applicant must provide an original application with all attachments, signed by an authorized representative and two copies. The application must be received at the address below by 4:30 p.m. Eastern Standard Time on or before the closing date. Applications should be mailed to: ACYF Operations, The Dixon Group, ATTN: Children's Bureau, 118 Q Street, NE, Washington, DC 20002-2132.

For Hand Delivery: Applicant must provide an original application with all attachments, signed by an authorized representative and two copies. The application must be received at the address below by 4:30 p.m. Eastern Standard Time on or before the closing date. Applications that are hand delivered will be accepted between the hours of 8 a.m. and 4:30 p.m., Monday through Friday. Applications may be delivered to: ACYF Operations, The Dixon Group, ATTN: Children's Bureau 118 Q Street, NE, Washington, DC 20002-2132. It is strongly recommended that applicants obtain documentation that the application was hand delivered on or before the closing date. Applicants are cautioned that express/overnight mail services do not always deliver as agreed.

Electronic Submission: Please see Section IV. 2. Content and Form of Application Submission, for guidelines and requirements when submitting applications electronically.

V. Application Review Information

The Paperwork Reduction Act of 1995 (Pub. L. 104-13)

Public reporting burden for this collection of information is estimated to average 40 hours per response, including the time for reviewing instructions, gathering and maintaining the data needed and reviewing the collection information. The project description is approved under OMB control number 0970-0139 which expires 3/31/2004. An agency may not conduct or sponsor, and a person is not required to respond to, a collection of information unless it displays a currently valid OMB control number.

Instruction

Introduction

Applicants required to submit a full project description shall prepare the project description statement in accordance with the following instructions and the specified evaluation criteria. The instructions give a broad overview of what your project description should include while the evaluation criteria expands and clarifies more program-specific information that is needed.

1. Criteria

General Instruction for Preparing Full Project Description

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use part 92 procedures, must justify any anticipated procurement action that is expected to be awarded without competition and exceed the simplified acquisition threshold fixed at 41 U.S.C. 403(11). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Specific Evaluation Criteria

The following criteria will be used to review and evaluate each application. The applicant should address each criterion in the project description. The point values (summing up to 100) indicate the maximum numerical weight each criterion will be accorded in the review process.

Criterion 1. Objectives and Need for Assistance

In reviewing the objectives and need for assistance, the following factors will be considered: (20 points)

(1) The extent to which the applicant clearly demonstrates that there is a continuing need for the program (e.g. sharing the results of a thorough assessment of community needs and including letters of support for the proposed program from community-based agencies).

(2) The extent to which the applicant clearly describes appropriate goals (end results of an effective project) and objectives (measurable steps for reaching these goals) for the proposed project. The extent to which these goals and objectives will effectively address community needs.

(3) The extent to which the applicant demonstrates a clear understanding of the population to be served by the project, including the needs of the target population. The extent to which the proposed project responds appropriately to needs of this target population. The extent to which the estimated number of infants and families to be served by the project is reasonable and appropriate.

(4) The extent to which the geographic location to be served by the project is clearly defined and justified based on factors such as the key socioeconomic and demographic characteristics of the targeted community as they relate to women of childbearing age, the needs of women and families who are affected by substance abuse and HIV/AIDS, and the current availability of needed services that serve substance-abusing and/or AIDS/HIV-infected women and their families in the community.

(5) The extent to which the applicant describes significant results or benefits that can be expected for substance-abusing women and/or women with HIV/AIDS and their children, and community-wide results, if any.

(6) The extent to which the program results will benefit national policy and practice, and lead to additional research in this field.

(7) The extent to which the proposed project is based and builds on an outcome analysis of prior evaluation(s). The extent to which this project would improve evidence-based practices to prevent child maltreatment. The extent to which the applicant presents a concise summary of the literature that reflects an understanding of the research on best practices and promising approaches in the field.

Criterion 2. Approach

In reviewing the approach, the following factors will be considered: (50 points)

(1) The extent to which the timeline for implementing the proposed project, including major milestones and target dates, is comprehensive and reasonable. The extent to which the applicant's plan for managing factors which could speed or hinder project implementation is feasible.

(2) The extent to which the specific services which would be provided under the proposed project are appropriate and are described in detail.

(3) The extent to which the proposed project will accomplish the provision(s) of the legislation as stated in the Background section of this announcement. The extent to which the need for short-term, transitional residential care services for small groups of infants or young children is justified (if these services are provided).

(4) The extent to which the applicant will work effectively with terminally ill parent(s), if present in the program, to make stand-by guardianship or stand-by adoption arrangements for their children to ensure the smooth transition to another caregiver and prevent a possible out-of home placement.

(5) The extent to which the project will be culturally responsive to the target population.

(6) The extent to which any revision or expansion of project goals and objectives is based on a review of the development and implementation of the previously funded Abandoned Infants Comprehensive Service Demonstration Project. The extent to which the review is based on an assessment of the effectiveness of the approaches (and revised approaches if appropriate) and intervention strategies initially proposed. The extent to which this review process includes a thorough assessment of problems in program implementation and improved strategies to address those barriers.

(7) The extent to which the proposed approach will effectively organize, make accessible and implement a comprehensive range of services for substance-abusing women and women with HIV/AIDS and their families. The extent to which the proposed range of services includes enhanced services based on prior year's experience in conducting a service program.

(8) The extent to which the logic model for this project demonstrates strong links between proposed inputs and activities and intended short-term and long-term outcomes, and shows how the achievement of these outcomes will be accurately measured.

(9) The extent to which the qualitative and quantitative data the program will collect will accurately measure progress towards the stated results or benefits. The extent to which the evaluation methods and procedures used will accurately determine the degree to which the program has achieved the stated objectives. The extent to which the applicant will comply with ACYF/CB requirements for third party evaluation and for collecting and submitting descriptive, process and outcome data as described in this announcement. The extent to which the applicant provides a sound plan for collecting this data and securing informed consent. The extent to which the plan includes appropriate procedures for an Institutional Review Board (IRB) review, if applicable.

(10) The extent to which the proposed evaluation plan would be likely to yield findings or results about effective strategies, and contribute to and promote evaluation research and evidence-based practices that could be used to guide replication or testing in other settings.

(11) The extent to which the products (if any) that would be developed during the proposed project would provide useful information on strategies utilized and the outcomes achieved that would effectively support evidence-based improvements of practices in the field. The extent to which the schedule for developing these products is reasonable, and the proposed dissemination plan is appropriate in scope and budget. The extent to which the intended audience (e.g., researchers, policymakers, and practitioners) for product dissemination is appropriate to the goals of the proposed project. The extent to which the project's products would be useful to each of these audiences. The extent to which there is a sound plan for effectively disseminating information, using appropriate mechanisms and forums to convey the information and support replication by other interested agencies.

(12) The extent to which there is a sound plan for continuing this project beyond the period of Federal funding.

Criterion 3. Organizational Profiles

In reviewing the organizational profiles, the following factors will be considered: (20 points)

(1) The extent to which the applicant organization and its staff have sufficient experience in successfully providing comprehensive services to substance-abusing women and women who have HIV/AIDS and their infants and/or young children, and in collaborating effectively with community-based agencies. The extent to which the applicant's history and relationship with the targeted community will assist in the effective implementation of the proposed project. The extent to which the applicant organization's capabilities and experience relative to this project, including experience with administration, development, implementation, management, and evaluation of similar projects, will enable them to implement the proposed project effectively.

(2) If the applicant represents a consortium of partner agencies, the extent to which their background and experience with children and families impacted by substance abuse and HIV/AIDS will support the planning and implementation of the proposed project. The extent to which there are letters of commitment from each partner authorizing the applicant to apply on behalf of the consortium and agreeing to participate if the proposal is funded.

(3) The extent to which the applicant's project director and key project staff possess sufficient relevant knowledge, experience and capabilities to implement and manage a project of this size, scope and complexity effectively. The extent to which the role, responsibilities and time commitments of each proposed project staff position, including consultants, subcontractors and/or partners, are clearly defined and appropriate to the successful implementation of the proposed project. The extent to which the author of this proposal will be closely involved throughout the implementation of the proposed project.

(4) The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

Criterion 4. Budget and Budget Justification (10 points)

In reviewing the budget and budget justification, the following factors will be considered: (10 points)

(1) The extent to which the costs of the proposed project are reasonable and programmatically justified, in view of the targeted population and community, the activities to be conducted and the expected results and benefits. (The size of a prior grant award is not, in and of itself, adequate justification to request the same amount under this announcement.)

(2) The extent to which the applicant's fiscal controls and accounting procedures would ensure prudent use, proper and timely disbursement and accurate accounting of funds received under this program announcement.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. They will be interested in your plans for sustaining your project without Federal funds if the evaluation findings are supportive. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions. The Commissioner may give special consideration to applications proposing services of special interest to the Government and to achieve geographic distributions of grant awards. Applications of special interest may include, but are not limited to, applications focusing on unserved or inadequately served clients or service areas and programs addressing diverse ethnic populations.

VI. Award Administration Information

1. Award Notices

Anticipated Announcement and Award Dates: Applications will be reviewed summer 2004. Grant awards will have a start date no later than September 30, 2004.

Award Notices: Successful applicants will receive a Financial Assistance Award which will set forth the amount of funds granted, the terms and conditions of the grant or cooperative agreement, the effective date of the grant, the budget period for which initial support will be given, the non-Federal share to be provided, if applicable, and the total project period for which support is contemplated. The Grants Management Office issues the award notice.

The Commissioner will notify organizations in writing when their applications will not be funded. Every effort will be made to notify all unsuccessful applicants as soon as possible after final decisions are made.

2. Administrative and National Policy Requirements

45 CFR part 74 and 45 CFR part 92.

3. Reporting

Reporting Requirements: Programmatic Reports and Financial Reports are required semi-annually. All required reports will be submitted in a timely manner, in recommended formats (to be provided), and the final report will also be submitted on disk or electronically using a standard word-processing program.

Within 90 days of project end date, the applicant will submit a copy of the final report, the evaluation report, and any program products to the National Clearinghouse on Child Abuse and Neglect, 330 C Street, SW., Washington, DC 20447. This is in addition to the standard requirement that the final program and evaluation report must also be submitted to the Grants Management Specialist and the Federal Project Officer.

VII. Agency Contacts

Program Office Contact

Pat Campiglia, 330 C St. SW., Washington, DC 20447, 202-205-8060, pcampiglia@acf.hhs.gov.

Grants Management Office Contact

Bill Wilson, 330 C St SW., Washington, DC 20447, 202-205-8913, wwillson@acf.hhs.gov.

General

The Dixon Group, ACYF Operations Center, 118 Q Street, NE., Washington, DC 20002-2132, Telephone: (866) 796-1591.

VIII. Other Information

Additional information about this program and its purpose can be located on the following Web sites: http://www.acf.hhs.gov/programs/cb/.

Dated: May 4, 2004.
Joan E. Ohl,
Commissioner, Administration on Children, Youth and Families.

[FR Doc. 04-10556 Filed 5-10-04; 8:45 am]

BILLING CODE 4184-01-P